DEPARTMENT OF TRANSPORTATION

National Highway Traffic Safety Administration

Denial of Motor Vehicle Defect Petition, DP00-002

AGENCY: National Highway Traffic Safety Administration (NHTSA), Department of Transportation.

ACTION: Denial of petition for a defect investigation.

SUMMARY: This notice sets forth the reasons for the denial of a petition submitted to NHTSA under 49 U.S.C. 30162, requesting that the agency commence a proceeding to determine the existence of a defect related to motor vehicle safety. The petition is hereinafter identified as DP00-002.

FOR FURTHER INFORMATION CONTACT: Dr. George Chiang, Office of Defects Investigation (ODI), NHTSA, 400 Seventh Street, SW, Washington, DC 20590. Telephone: (202) 366-5206.

SUPPLEMENTARY INFORMATION: Mr. Edward C. Kerr of Martens & Associates, Ltd. in Buffalo Grove, IL, submitted a petition to NHTSA by letter dated January 18, 2000, requesting that a new investigation be initiated or Engineering Analysis EA99-027 be extended in its scope to determine whether to issue an order concerning the notification and remedy of a defect in model year 1991 and later DamlerChrysler corporation (former Chrysler Corporation) vehicles equipped with an ignition switch assembly characterized by having a lighted plastic ring around the key cylinder assembly (subject vehicles). The petitioner alleges that the subject vehicles' ignition switch assembly allows particles/debris to fall inside, which could interfere with the switch contact operation. This may cause electrical anomalies resulting in overheating and fire. The fires, the petitioner alleges, can occur without warning in both moving and parked vehicles.

ODI requested and obtained from DaimlerChrysler Corporation a listing of the subject vehicle models and populations. ODI also conducted a search of consumer complaints reported to NHTSA alleging that a thermal event (fire, smoke, melt, burn, overheat, etc.) occurred in the steering column and/or ignition switch areas of the subject vehicles. Further, ODI calculated the exposure complaint rate, i.e., the number of complaints per 100,000 vehicles per year, for each model and model year of the subject vehicles, and found that: (1) For a given subject vehicle model year, the exposure complaint rates vary significantly across all the subject vehicle models, (2) for a given subject vehicle model, the exposure complaint rates vary significantly across the subject vehicle model years, and (3) the exposure complaint rate was zero (no complaint reported) for many model/model year subject vehicles. Therefore, contrary to the petitioner's claim, the subject vehicles do not appear to have a common ignition switch related problem which would cause a fire. (See Attachments 1 through 3).

In Attachment 3, it is noted that the model year 1995 Dodge spirit has the highest exposure complaint rate. However, the rate represents only three complaints received over a span of three years. Also, there have been no complaints received in nearly 2 years. Further, no similar complaints have been received on the model year 1995 Plymouth Acclaim which is built on the same body platform as the model year 1995 Dodge Spirit. Due to the small number of complaints and lack of recent complaints, no investigation has been opened on these vehicles concerning thermal events in the steering column and/or ignition switch areas.

It is also noted that the model year 1994 and 1995 Dodge Ram Pickups have a higher number of complaints (compared with other DaimlerChrysler vehicles shown in Attachment 2) and have the second and third highest exposure complaint rates. These vehicles currently are the subject of an ODI investigation, EA99-027. At this time, that investigation is focused on allegations that the ignition switch wiring harness overheats when operating the blower motor, resulting in smoke, melting of the surrounding plastic, or fire. A copy of this petition has been included in that investigation file.

In view of the foregoing, it is unlikely that NHTSA would issue an order for the notification and remedy of the alleged safety-related defect as defined by the petition in the subject vehicles at the conclusion of the investigation requested in the petition. Therefore, in view of the need to allocate and prioritize NHTSA's limited resources to best accomplish the agency's safety mission, the petition is denied.

Authority: 49 U.S.C. 30162(d); delegations of authority at CFR 1.50 and 501.8.

Kenneth N. Weinstein,
Associate Administrator for Safety Assurance.

Attachment 1.—Populations of Model Year 1991 and Later Model Chrysler Product Line Vehicles Equipped With an Ignition Switch Assembly Characterized by Having a Lighted Plastic Ring Around the Key Cylinder Assembly
Vehicle make | Vehicle line | MY 91 | MY 92 | MY 93 | MY 94 | MY 95 | MY 96 | MY 97 | MY 98 | MY 99 | MY 2000
Chrysler | Acclaim | 95,314 | 99,420 | 70,914 | 71,590 | 23,768 |  |  |  |  |
Dodge | Spirit | 114,905 | 66,905 | 76,509 | 68,382 | 24,566 |  |  |  |  |
Chrysler | Lebaron | 57,596 | 54,486 | 59,282 | 63,122 | 35,859 |  |  |  |  |
Dodge | Dynasty | 112,460 | 85,239 | 58,404 |  |  |  |  |  |  |
Chrysler | New Yorker | 14,354 | 17,237 | 20,855 |  |  |  |  |  |  |
Chrysler | Imperial | 51,185 | 41,486 | 33,587 |  |  |  |  |  |  |
Dodge | Daytona | 17,523 | 10,941 | 9,070 |  |  |  |  |  |  |
Plymouth | Sundance | 57,298 | 65,554 | 74,612 | 65,477 |  |  |  |  |  |
Dodge | Shadow | 82,633 | 79,409 | 102,428 | 89,460 |  |  |  |  |  |
Dodge | Viper |  | 238 | 915 | 2,409 | 1,430 | 1,815 | 1,556 | 1,072 | 1,048 | 484
Plymouth | Prowler |  |  |  |  |  |  | 404.00 | n/a | 3,690 | 1,374
Plymouth | Neon |  |  |  |  | n/a | n/a | n/a | n/a | n/a | n/a
Dodge | Neon |  |  |  |  | n/a | n/a | n/a | n/a | n/a | n/a
Plymouth | Breeze |  |  |  |  |  | 46,725 | 70,710 | n/a | n/a | n/a
Dodge | Stratus |  |  |  |  | 47,978 | 100,010 | 97,745 | n/a | n/a | n/a
Chrysler | Cirrus |  |  |  |  | 62,014 | 43,743 | 28,112 | n/a | n/a | n/a
Chrysler | Sebring Convertible |  |  |  |  |  |  | 56,030 | 50,869 | 46,772 | 29,466
Dodge | Intrepid |  |  | 70,160 | 130,603 | 152,579 | 146,826 | 152,314 | n/a | n/a | n/a
Eagle | Vision |  |  | 28,749 | 22,119 | 25,157 | 12,849 | 5,897 | n/a | n/a | n/a
Chrysler | Concorde, LHS, NY, 300M |  |  | 49,530 | 171,090 | 102,707 | 89,730 | 88,132 | n/a | n/a | n/a
Plymouth | Voyager | 145,684 | 189,013 | 211,156 | 224,558 | 166,401 | 183,899 | 150,163 | 156,508 | 150,194 | 72,364
Dodge | Caravan | 184,878 | 235,958 | 272,489 | 283,956 | 217,736 | 348,978 | 292,046 | 296,787 | 309,492 | 183,958
Chrysler | Town and Country | 2,244 | 13,205 | 26,059 | 37,884 | 12,897 | 107,400 | 79,444 | 76,694 | 68,330 | 61,399
Dodge | Ram Wagon | 56,901 | 69,239 | 31,736 | 129,230 | 75,108 | 85,887 | 98,829 | n/a | n/a | n/a
Dodge | Dakota | 73,162 | 125,714 | 131,611 | 102,750 | 117,991 | 98,200 | 128,785 | 152,496 | 134,192 | n/a
Dodge | Ram Pickup | 88,769 | 74,944 | 76,241 | 188,097 | 267,241 | 362,880 | 375,061 | 410,815 | 406,057 | n/a
Dodge | Durango |  |  |  |  |  |  |  | 123,099 | 204,194 | n/a
Jeep | Commanche | n/a | n/a |  |  |  |  |  |  |  |
Jeep | Wrangler | n/a | n/a | n/a | n/a | n/a | n/a | 127,295 | 91,392 | 85,794 | 54,246
Jeep | Cherokee | n/a | n/a | n/a | n/a | n/a | 187,345 | n/a | n/a | n/a | n/a
Jeep | Grand Cherokee |  |  | 224,359 | 227,602 | 265,848 | 284,641 | 262,133 | 251,758 | 288,757 | 173,042
| Total | 1,154,906 | 1,228,988 | 1,628,666 | 1,878,329 | 1,599,280 | 2,100,928 | 2,014,654 | 1,611,490 | 1,698,520 | 576,333
| Grand total |  |  |  |  |  |  |  |  |  | 15,492,094
‘n/a’—model/model year vehicle not equipped with an ignition switch characterized by having a lighted plastic ring around the key cylinder assembly.
Empty cell block—model/model year vehicle not produced.

Attachment 2.—Number of Consumer Complaints Received by NHTSA as of March 2, 2000, Alleging a Thermal Event Occurred in the Steering Column and/or Ignition Switch Areas
Vehicle make | Vehicle line | MY 91 | MY 92 | MY 93 | MY 94 | MY 95 | MY 96 | MY 97 | MY 98 | MY 99 | MY 2000
Plymouth | Acclaim | 3 | 4 | 1 | 0 | 0 |  |  |  |  |
Dodge | Spirit | 3 | 3 | 5 | 1 | 3 |  |  |  |  |
Chrysler | Lebaron | 0 | 3 | 0 | 1 | 0 |  |  |  |  |
Dodge | Dynasty | 1 | 0 | 0 |  |  |  |  |  |  |
Chrysler | New Yorker | 0 | 0 | 0 |  |  |  |  |  |  |
Chrysler | Imperial | 0 | 0 | 0 |  |  |  |  |  |  |
Dodge | Daytona | 0 | 0 | 0 |  |  |  |  |  |  |
Plymouth | Sundance | 0 | 2 | 1 | 0 |  |  |  |  |  |
Dodge | Shadow | 0 | 0 | 0 | 0 |  |  |  |  |  |
Dodge | Viper |  | 0 | 0 | 0 | 0 | 0 | 0 | 0 | 0 | 0
Plymouth | Prowler |  |  |  |  |  |  | 0 | n/a | 0 | 0
Plymouth | Neon |  |  |  |  | n/a | n/a | n/a | n/a | n/a | n/a
Dodge | Neon |  |  |  |  | n/a | n/a | n/a | n/a | n/a | n/a
Plymouth | Breeze |  |  |  |  |  | 0 | 0 | n/a | n/a | n/a
Dodge | Stratus |  |  |  |  | 0 | 0 | 0 | n/a | n/a | n/a
Chrysler | Cirrus |  |  |  |  | 2 | 0 | 0 | n/a | n/a | n/a
Chrysler | Sebring Convertible |  |  |  |  |  |  | 0 | 0 | 0 | 0
Dodge | Intrepid |  |  | 0 | 0 | 0 | 0 | 0 | n/a | n/a | n/a
Eagle | Vision |  |  | 0 | 0 | 0 | 0 | 0 | n/a | n/a | n/a
Chrysler | Concorde, LHS, NY, 300M | 0 | 0 | 1 | 2 | 0 | 0 | 0 | n/a | n/a | n/a
Plymouth | Voyager | 1 | 1 | 0 | 0 | 0 | 1 | 0 | 0 | 0 | 0
Dodge | Caravan | 0 | 0 | 0 | 0 | 0 | 0 | 0 | 0 | 0 | 0
Chrysler | Town and Country | 0 | 0 | 0 | 0 | 0 | 0 | 0 | 0 | 0 | 0
Dodge | Ram Wagon | 3 | 3 | 0 | 0 | 0 | 1 | 0 | n/a | n/a | n/a
Dodge | Dakota | 0 | 2 | 0 | 1 | 0 | 0 | 0 | 0 | 0 | n/a
Dodge | Ram Pickup | 1 | 2 | 0 | 20 | 18 | 1 | 0 | 0 | 0 | n/a
Dodge | Durango |  |  |  |  |  |  |  | 0 | 0 | n/a
Jeep | Commanche | n/a | n/a |  |  |  |  |  |  |  |
Jeep | Wrangler | n/a | n/a | n/a | n/a | n/a | n/a | 0 | 0 | 0 | 0
Jeep | Cherokee | n/a | n/a | n/a | n/a | n/a | 2 | n/a | n/a | n/a | n/a
Jeep | Grand Cherokee |  |  | 1 | 0 | 0 | 0 | 0 | 0 | 0 | 0
‘n/a’—model/model year vehicle not equipped with an ignition switch characterized by having a lighted plastic ring around the key cylinder assembly.
Empty cell block—model/model year vehicle not produced.

Attachment 3.—Exposure Compliant Rate (the Number of Complaints per 100K Vehicles per Year) of an Alleged Thermal Event Occurred in the Steering Column and/or Ignition Switch Areas
Vehicle make | Vehicle line | MY 91 | MY 92 | MY 93 | MY 94 | MY 95 | MY 96 | MY 97 | MY 98 | MY 99 | MY 2000
Plymouth | Acclaim | .034 | .048 | .019 | 0.00 | 0.00 |  |  |  |  |
Dodge | Spirit | 0.28 | 0.54 | 0.89 | 0.23 | 2.29 |  |  |  |  |
Chrysler | Lebaron | 0.00 | 0.66 | 0.00 | 0.25 | 0.00 |  |  |  |  |
Dodge | Dynasty | 0.09 | 0.00 | 0.00 |  |  |  |  |  |  |
Chrysler | New Yorker | 0.00 | 0.00 | 0.00 |  |  |  |  |  |  |
Chrysler | Imperial | 0.00 | 0.00 | 0.00 |  |  |  |  |  |  |
Dodge | Daytona | 0.00 | 0.00 | 0.00 |  |  |  |  |  |  |
Plymouth | Sundance | 0.00 | 0.37 | 0.18 | 0.00 |  |  |  |  |  |
Dodge | Shadow | 0.00 | 0.00 | 0.00 | 0.00 |  |  |  |  |  |
Dodge | Viper |  | 0.00 | 0.00 | 0.00 | 0.00 | 0.00 | 0.00 | 0.00 | 0.00 | 0.00
Plymouth | Prowler |  |  |  |  |  |  | 0.00 | n/a | 0.00 | 0.00
Plymouth | Neon |  |  |  |  | n/a | n/a | n/a | n/a | n/a | n/a
Dodge | Neon |  |  |  |  | n/a | n/a | n/a | n/a | n/a | n/a
Plymouth | Breeze |  |  |  |  |  | 0.00 | 0.00 | n/a | n/a | n/a
Dodge | Stratus |  |  |  |  | 0.00 | 0.00 | 0.00 | n/a | n/a | n/a
Chrysler | Cirrus |  |  |  |  | 0.60 | 0.00 | 0.00 | n/a | n/a | n/a
Chrysler | Sebring Convertible |  |  |  |  |  |  | 0.00 | 0.00 | 0.00 | 0.00
Dodge | Intrepid |  |  | 0.00 | 0.00 | 0.00 | 0.00 | 0.00 | n/a | n/a | n/a
Eagle | Vision |  |  | 0.00 | 0.00 | 0.00 | 0.00 | 0.00 | n/a | n/a | n/a
Chrysler | Concorde, LHS, NY, 300M | 0.00 | 0.00 | 0.28 | 0.18 | 0.00 | 0.00 | 0.00 | n/a | n/a | n/a
Plymouth | Voyager | 0.07 | 0.06 | 0.00 | 0.00 | 0.00 | 0.12 | 0.00 | 0.00 | 0.00 | 0.00
Dodge | Caravan | 0.00 | 0.00 | 0.00 | 0.00 | 0.00 | 0.00 | 0.00 | 0.00 | 0.00 | 0.00
Chrysler | Town and Country | 0.00 | 0.00 | 0.00 | 0.00 | 0.00 | 0.00 | 0.00 | 0.00 | 0.00 | 0.00
Dodge | Ram Wagon | 0.56 | 0.52 | 0.00 | 0.00 | 0.00 | 0.27 | 0.00 | n/a | n/a | n/a
Dodge | Dakota | 0.00 | 0.19 | 0.00 | 0.15 | 0.00 | 0.00 | 0.00 | 0.00 | 0.00 | n/a
Dodge | Ram Pickup | 0.12 | 0.32 | 0.00 | 1.68 | 1.26 | 0.06 | 0.00 | 0.00 | 0.00 | n/a
Dodge | Durango |  |  |  |  |  |  |  | 0.00 | 0.00 | n/a
Jeep | Commanche | n/a | n/a |  |  |  |  |  |  |  |
Jeep | Wrangler | n/a | n/a | n/a | n/a | n/a | n/a | 0.00 | 0.00 | 0.00 | 0.00
Jeep | Cherokee | n/a | n/a | n/a | n/a | n/a | 0.25 | n/a | n/a | n/a | n/a
Jeep | Grand Cherokee |  |  | 0.06 | 0.00 | 0.00 | 0.00 | 0.00 | 0.00 | 0.00 | 0.00
‘n/a’—model/model year vehicle not equipped with an ignition switch characterized by having a lighted plastic ring around the key cylinder assembly.
Empty cell block—model/model year vehicle not produced.

[FR Doc. 00-10630 Filed 4-27-00; 8:45 am]

BILLING CODE 4910-59-M